DEPARTMENT OF TRANSPORTATION

Pipeline and Hazardous Materials Safety Administration

[Docket No. PHMSA-2018-0078]

Pipeline Safety: Information Collection Activities, Revision to OPID Assignment Request and National Registry Notification

AGENCY: Pipeline and Hazardous Materials Safety Administration (PHMSA), DOT.

ACTION: Notice and request for comments.

SUMMARY: In compliance with the Paperwork Reduction Act of 1995, this notice announces that the information collection request abstracted below is being forwarded to the Office of Management and Budget (OMB) for review and comment. PHMSA proposes revising certain parts of the forms and instructions for the Operator Assignment Request (PHMSA F 1000.1) and National Registry Notification (PHMSA F 1000.2) currently approved under OMB control number 2137-0627. A Federal Register notice with a 60-day comment period soliciting comments on the information collection was published on August 9, 2018.

DATES: Interested persons are invited to submit comments on or before January 17, 2019.

FOR FURTHER INFORMATION CONTACT: Angela Dow by telephone at 202-366-1246, by email at angela.dow@dot.gov, or by mail at DOT, PHMSA, 1200 New Jersey Avenue SE, PHP-30, Washington, DC 20590-0001.

ADDRESSES: Submit comments regarding the burden estimate, including suggestions for reducing the burden, to the Office of Management and Budget, Attention: Desk Officer for the Office of the Secretary of Transportation, 725 17th Street NW, Washington, DC 20503.

SUPPLEMENTARY INFORMATION: Section 1320.8(d), Title 5, Code of Federal Regulations, requires PHMSA to provide interested members of the public and affected agencies an opportunity to comment on information collection and recordkeeping requests. In accordance with this regulation, on August 9, 2018, (83 FR 39508) PHMSA published a Federal Register notice with a 60-day comment period soliciting comments on the information collection.

PHMSA received one comment from Vectren Corporation. Vectren Corporation supports the information collection, but notes that it could be improved by more detailed reporting instructions. PHMSA placed instructions for completing the Operator Assignment Request and the National Registry Notification forms in the docket. PHMSA will submit the information collection titled “National Registry of Pipeline and Liquefied Natural Gas (LNG) Operators” to OMB for revision.

The following information is provided for this information collection: (1) Title of the information collection; (2) OMB control number; (3) Current expiration date; (4) Type of request; (5) Abstract of the information collection activity; (6) Description of affected public; (7) Estimate of total annual reporting and recordkeeping burden; and (8) Frequency of collection.

PHMSA will request a three-year term of approval for the following information collection:

Title: National Registry of Pipeline and Liquefied Natural Gas (LNG) Operators.

OMB Control Number: 2137-0627.

Current Expiration Date: 7/31/2020.

Type of Request: Revision.

Abstract: The National Registry of Pipeline and LNG Operators serves as the storehouse for the reporting requirements for an operator regulated or subject to reporting requirements under 49 CFR part 192, 193, or 195. This registry incorporates the use of two forms: OPID Assignment Request (PHMSA F 1000.1) and National Registry Notification (PHMSA F 1000.2).

Affected Public: Operators of Pipeline Facilities.

Annual Reporting and Recordkeeping Burden:

Total Annual Responses: 689.

Total Annual Burden Hours: 689.

Frequency of Collection: On occasion.

Comments to Office of Management and Budget are invited on:

(a) The need for the proposed information, including whether the information will have practical utility in helping the agency to achieve its pipeline safety goals;

(b) The accuracy of the agency's estimate of the burden of the proposed collection;

(c) Ways to enhance the quality, utility, and clarity of the information to be collected; and

(d) Ways to minimize the burden on those who are to respond, including the use of appropriate automated, electronic, mechanical, or other technological collection techniques.

Authority: The Paperwork Reduction Act of 1995; 44 U.S.C. Chapter 35, as amended; and 49 CFR 1.48.

Issued in Washington, DC, on December 12, 2018, under authority delegated in 49 CFR 1.97.
Alan K. Mayberry,
Associate Administrator for Pipeline Safety.

[FR Doc. 2018-27274 Filed 12-17-18; 8:45 am]

BILLING CODE 4910-60-P